DEPARTMENT OF DEFENSE

Office of the Secretary

[Docket ID: DoD-2012-OS-0131]

Privacy Act of 1974; System of Records

AGENCY: Office of the Secretary of Defense, DoD.

ACTION: Notice to Add a New System of Records.

SUMMARY: The Office of the Secretary of Defense proposes to add a new system of records to its inventory of record systems subject to the Privacy Act of 1974 (5 U.S.C. 552a), as amended.

DATES: This proposed action will be effective on November 26, 2012 unless comments are received which result in a contrary determination. Comments will be accepted on or before November 26, 2012.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a of the Privacy Act of 1974, as amended, was submitted on October 16, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 23, 2012.
Aaron Siegel,
Alternate OSD Federal Register Liaison Officer, Department of Defense.

DPA 01

System name:

Public Affairs Management Information System (PAMIS).

System location:

Office of the Assistant Secretary of Defense for Public Affairs, (OASD PA) Information Resource Management (IRM), 1400 Defense Pentagon, Room 2E989, Washington, DC 20301-1400.

Categories of individuals covered by the system:

Department of Defense (DoD) civilian and military personnel (active duty and reserve) assigned to the OASD (PA) and the Defense Media Activity.

Categories of records in the system:

Name, DoD Identification (DoD ID) number, home address, office address, grade, home phone number, office email, personal mobile phone number, DoD issued blackberry phone number, positions authorized a DoD blackberry, fax, defense switch number (DSN), emergency contact information, manpower number, supervisor, duty start date, duty station location, branch of service, service computation date, Entry on Duty (EOD), organization code, office code, job series, position title, manpower number, parking permit, and parking subsidy.

Authority for maintenance of the system:

10 U.S.C. 113, Secretary of Defense; DoD Directive 5122.05, Assistant Secretary of Defense for Public Affairs (ASD (PA)) and DoD Directive 3020.26, Department of Defense Continuity Programs.

Purpose(s):

Information is collected and maintained to ensure OASD (PA) has the capability to access personnel information to support internal mission requirements associated with personnel actions, authorized billets, manpower levels, parking permits, recall rosters, emergency contact information, blackberry authorizations and the Public Affairs COOP.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD Blanket Routine Uses that appear at the beginning of the OSD compilation of system of record notices may apply to this system.

Policies and Practices for Storing, Retrieving, Accessing, Retaining, and Disposing of Records in the System:

Storage:

Electronic storage media.

Retrieveability:

Records are retrieved using the DOD ID number, name, or manpower number.

Safeguards:

Computerized records are maintained in a controlled area accessible only to authorized personnel with a valid requirement and authorization to enter. Physical entry is restricted by the use of locks, guards, and administrative procedures. Access to personal information is role based and restricted to those who require the records in the performance of their official duties. Access to personal information is further restricted by the use of usernames, passwords, system permissions and Common Access Cards (CAC). All individuals to be granted access to this system of records are to have received Information Assurance and Privacy Act training.

Retention and disposal:

Destroy 3 years old after an individual departs.

System manager(s) and address:

Office of the Assistant Secretary of Defense for Public Affairs, 1400 Defense Pentagon, Room 2E996, Washington, DC 20301-1400.

Notification procedures:

Individuals seeking to determine whether this system of records contains information about themselves should address written inquiries to the PAMIS System Manager, Office of the Assistant Secretary of Defense for Public Affairs, 1400 Defense Pentagon, Room 2E996, Washington, DC 20301-1400.

The request must include full name, DoD ID number, and a complete mailing address.

Record access procedures:

Individuals seeking access to records about themselves contained in this system of records should address written inquiries to the Office of the Secretary of Defense/Joint Staff Freedom of Information Act Requester Service Center, 1155 Defense Pentagon, Washington, DC 20301-1155.

The request must be signed and include the name and number of this system of records notice, the individual's full name, DoD ID number, and a complete mailing address.

Contesting record procedures:

The OSD rules for accessing records, for contesting contents, and appealing initial agency determinations are contained in OSD Administrative Instruction 81; 32 CFR part 311; or may be obtained from the system manager.

Record source categories:

Information is collected from individuals and the following organization records: HRSC-CIV-MIL-PSD report, staffing summary report, cluster report (Office of Director of Administration and Management, Organization and Manpower), executive titles report, OSD Military staffing report, Notification of Incoming Personnel (NIP).

Exemptions claimed for the system:

None.

[FR Doc. 2012-26406 Filed 10-25-12; 8:45 a.m.]

BILLING CODE 5001-06-P